ENVIRONMENTAL PROTECTION AGENCY

40 CFR Part 52

[IL190-1b; FRL-6574-2]

Approval and Promulgation of Air Quality Implementation Plans; Illinois; Approval of a Site-Specific Sulfur Dioxide Plan; Revision for CILCO Edwards Station

AGENCY: Environmental Protection Agency (EPA).

ACTION: Proposed rule.

SUMMARY: EPA is proposing to approve a May 21, 1999, site-specific sulfur dioxide (SO2) SIP revision request for the Central Illinois Light Company's Edwards Generating Station in Peoria County, Illinois. Illinois' requested SIP revision provides for a temporary relaxation in the fuel quality limit for one of the facility's three boilers, but adds an overall daily sulfur dioxide emission cap for the three boilers. The SIP revision request included dispersion modeling results which indicated that the revision will not cause violations of the SO2 standards. In the final rules section of this Federal Register, the EPA is approving the State's request as a direct final rule without prior proposal because EPA views this action as noncontroversial and anticipates no adverse comments. A detailed rationale for approving the State's request is set forth in the direct final rule. The direct final rule will become effective without further notice unless the Agency receives relevant adverse written comment on this action. Should the Agency receive such comment, it will publish a final rule informing the public that the direct final rule will not take effect and such public comment received will be addressed in a subsequent final rule based on this proposed rule. If no adverse written comments are received, the direct final rule will take effect on the date stated in that document and no further activity will be taken on this proposed rule. EPA does not plan to institute a second comment period on this action. Any parties interested in commenting on this action should do so at this time.

DATES: Comments must be received on or before May 15, 2000.

ADDRESSES: All comments should be addressed to: J. Elmer Bortzer, Chief, Regulation Development Section, Air Programs Branch (AR-18J), U.S. Environmental Protection Agency, 77 West Jackson Boulevard, Chicago, IL 60604.

Copies of the State submittal and other relevant documents used in support of this action are available at the following address for inspection during normal business hours: U.S. Environmental Protection Agency, Region 5, Air Programs Branch, Air and Radiation Division, 77 West Jackson Boulevard, Chicago, IL 60604.

FOR FURTHER INFORMATION CONTACT: Mary Portanova, EPA Region 5, Air and Radiation Division (AR-18J), 77 West Jackson Boulevard, Chicago, IL 60604, (312) 353-5954.

SUPPLEMENTARY INFORMATION: For further information see the direct final rule published in the final rules section of this Federal Register.

Dated: March 28, 2000.
Francis X. Lyons,
Regional Administrator, Region 5.

[FR Doc. 00-8953 Filed 4-12-00; 8:45 am]

BILLING CODE 6560-50-P